DEPARTMENT OF THE TREASURY

Submission for OMB Review; Comment Request

July 13, 2001

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 20, 2001 to be assured of consideration.

Internal Revenue Service (IRS)

OMB Number: 1545-0192.

Form Number: IRS Form 4562.

Type of Review: Revision.

Title: Depreciation and Amortization (Including Information on Listed Property).

Description: Taxpayers use Form 4562 to: (1) claim for depreciation and/or amortization; (2) make a section 179 election to expense depreciable assets; and (3) answer questions regarding the use of automobiles and other listed property to substantiate the business use under section 274(d).

Respondents: Individuals or households, Business or other for-profit, Farms.

Estimated Number of Respondents/Recordkeepers: 6,500,000.

Estimated Burden Hours Per Respondent/Recordkeeper:

Recordkeeping—37 hr., 19 min.

Learning about the law or the form—5 hr., 10 min.

Preparing and sending the form to the IRS—5 hr., 59 min.

Frequency of Response: Annually.

Estimated Total Reporting/Recordkeeping Burden: 298,367,500 hours.

Clearance Officer: Garrick Shear, Internal Revenue Service, Room 5244, 1111 Constitution Avenue, NW., Washington, DC 20224.

OMB Reviewer: Alexander T. Hunt, (202) 395-7860, Office of Management and Budget, Room 10202, New Executive Office Building, Washington, DC 20503.

Lois K. Holland,
Departmental Reports Management Officer.

[FR Doc. 01-18144 Filed 7-19-01; 8:45 am]

BILLING CODE 4830-01-P